CONSUMER PRODUCT SAFETY COMMISSION

Sunshine Act Meeting

TIME AND DATE: Wednesday, December 17, 2014, 10:00 a.m.-12:00 p.m.

PLACE: CPSC's National Product Testing and Evaluation Center, 5 Research Place, Rockville, MD 20850.

STATUS: Commission Meeting—Open to the Public

Matter To Be Considered: Decisional Matter: Phthalates—NPR.

A live Web cast of the Meeting can be viewed at www.cpsc.gov/live.

Note: If there is a change in location of the meeting, we will post the location change on the CPSC Web site and on the CPSC Public Calendar as soon as possible, but no later than 24 hours before the meeting time. Please check our Web site for possible change in location.

CONTACT PERSON FOR MORE INFORMATION: Rockelle Hammond, Office of the Secretary, U.S. Consumer Product Safety Commission, 4330 East-West Highway, Bethesda, MD 20814, (301) 504-7923.

Dated: December 10, 2014.
Alberta E. Mills,
Acting Secretary.

[FR Doc. 2014-29316 Filed 12-10-14; 4:15 pm]

BILLING CODE 6355-01-P